DEPARTMENT OF ENERGY

Notice of Orders Issued Under Section 3 of the Natural Gas Act During May 2019

| FE Docket Nos.
PORT ARTHUR LNG, LLC | 15-96-LNG
DRIFTWOOD LNG LLC | 16-144-LNG
ENVIRO EXPRESS, INC | 19-35-LNG; 17-53-LNG
TRANS-PECOS PIPELINE, LLC | 19-50-NG
ENCANA MARKETING (USA) INC | 19-47-NG
TRAILSTONE ENERGY MARKETING DE MEXICO, S. DE R.L. DE C.V | 19-51-NG
TRAILSTONE NA LOGISTICS, LLC | 19-52-NG
ECOGAS MEXICO, S. DE R.L. DE C.V | 19-45-NG
WORLD FUEL SERVICES, INC | 19-46-NG;
IDAHO POWER COMPANY | 19-53-NG
CHEVRON U.S.A. INC | 19-54-NG
CP ENERGY MARKETING (US) INC | 19-58-NG
ELEMENT MARKETS RENEWBLE ENERGY LLC | 19-59-NG
OZARK GAS LLC | 19-60-NG
PETROCHINA INTERNATIONAL (CANADA)) TRADING LTD | 19-44-NG
NEW ENGLAND NG SUPPLY LIMITED | 19-55-NG
POTELCO, INC | 19-56-LNG
CASCADE NATURAL GAS CORPORATION | 19-57-NG

AGENCY: Office of Fossil Energy, Department of Energy.

ACTION: Notice of orders.

SUMMARY: The Office of Fossil Energy (FE) of the Department of Energy gives notice that during May 2019, it issued orders granting authority to import and export natural gas, to import and export liquefied natural gas (LNG), and vacating prior authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on July 11, 2019.
Amy Sweeney,
Director, Office of Regulation, Analysis, and Engagement, Office of Oil and Natural Gas.

APPENDIX

DOE/FE Orders Granting Import/Export Authorizations
4372 | 05/02/19 | 15-96-LNG | Port Arthur LNG, LLC | Opinion and Order 4372 granting long-term authority to export LNG to Non-Free Trade Agreement Nations.
4373 | 05/02/19 | 16-144-LNG | Driftwood LNG LLC | Opinion and Order 4373 granting long-term authority to export LNG to Non-Free Trade Agreement Nations.
4380; 4031-A | 05/14/19 | 19-35-LNG; 17-53-LNG | Enviro Express, Inc | Order 4380 granting blanket authority to import LNG from Canada by truck, and Order 4031-A vacating prior authorization.
4381 | 05/14/19 | 19-50-NG | Trans-Pecos Pipeline, LLC | Order 4381 granting blanket authority to import/export natural gas from/to Mexico.
4382 | 05/14/19 | 19-47-NG | Encana Marketing (USA) Inc | Order 4382 granting blanket authority to import/export natural gas from/to Canada/Mexico.
4383 | 05/14/19 | 19-51-NG | Trailstone Energy Marketing de Mexico, S. de R.L. de C.V | Order 4383 granting blanket authority to import/export natural gas from/to Mexico.
4384 | 05/14/19 | 19-52-NG | Trailstone NA Logistics, LLC | Order 4384 granting blanket authority to import/export natural gas from/to Canada/Mexico, to import LNG from Canada/Mexico by truck, to export LNG to Canada/Mexico by vessel, and to import LNG from various international sources by vessel.
4385 | 05/14/19 | 19-45-NG | Ecogas Mexico, S. de R.L. de C.V | Order 4385 granting blanket authority to import natural gas from Canada, and to export natural gas to Mexico.
4386 | 05/29/19 | 19-46-NG | World Fuel Services, Inc | Order 4386 granting blanket authority to import/export natural gas from/to Mexico.
4387 | 05/29/19 | 19-53-NG | Idaho Power Company | Order 4387 granting blanket authority to import natural gas from Canada.
4388 | 05/29/19 | 19-54-NG | Chevron U.S.A. Inc | Order 4388 granting blanket authority to import/export natural gas from/to Canada.
4389 | 05/29/19 | 19-58-NG | CP Energy Marketing (US) Inc | Order 4389 granting blanket authority to import/export natural gas from/to Canada.
4390 | 05/29/19 | 19-59-NG | Element Markets Renewable Energy LLC | Order 4390 granting blanket authority to import/export natural gas from/to Canada/Mexico.
4391 | 05/29/19 | 19-60-NG | Ozark Gas LLC | Order 4391 granting blanket authority to export natural gas to Mexico.
4392 | 05/30/19 | 19-44-NG | PetroChina International (Canada) Trading Ltd | Order 4392 granting blanket authority to import/export natural gas from/to Canada.
4393 | 05/30/19 | 19-55-NG | New England NG Supply Limited | Order 4393 granting blanket authority to import/export natural gas from/to Canada.
4394 | 05/30/19 | 19-56-LNG | Potelco, Inc | Order 4394 granting blanket authority to import LNG from Canada by truck.
4395 | 05/30/19 | 19-57-NG | Cascade Natural Gas Corporation | Order 4395 granting blanket authority to import natural gas from Canada.

[FR Doc. 2019-15167 Filed 7-16-19; 8:45 am]

BILLING CODE 6450-01-P